DEPARTMENT OF HOMELAND SECURITY

Bureau of Customs and Border Protection

[CBP Decision 03—06]

Customs Accreditation of Intertek Testing Services/Caleb Brett as a Commercial Laboratory

AGENCY: Customs and Border Protection, Department of Homeland Security.

ACTION: Notice of Accreditation of Intertek Testing Services/Caleb Brett of Texas City, Texas, as a Commercial Laboratory.

SUMMARY: Intertek Testing Services/Caleb Brett of Texas City, Texas has applied to Customs and Border Protection under part 151.12 of the Customs Regulations for an extension of accreditation as a commercial laboratory to analyze petroleum products under Chapter 27 and Chapter 29 of the Harmonized Tariff Schedule of the United States (HTSUS). Customs has determined that this company meets all of the requirements for accreditation as a commercial laboratory. Specifically, Intertek Testing Services/Caleb Brett has been granted accreditation to perform the following test methods at their Texas City, Texas site: (1) Distillation of Petroleum Products, ASTM D86; (2) Flash-Point by Pensky Martens Closed Cup Tester, ASTM D93; (3) API Gravity by Hydrometer, ASTM D287; (4) Kinematic Viscosity of Transparent and Opaque Liquids, ASTM D445; (5) Sediment in Crude Oils and Fuel Oils by Extraction, ASTM D473; (6) Water in Crude Oil by Distillation, ASTM D4006; (7) Water and Sediment in Crude Oil by the Centrifuge Method, ASTM D4007; (8) Percent by Weight of Sulfur by Energy-Dispersive X-Ray Fluorescence, ASTM D4294; (9) Water in Crude Oils by Coulometric Karl Fischer Titration, ASTM D4928; (10) Density and Relative Density of Crude Oils by Digital Density Analyzer, ASTM D 5002; (11) Vapor Pressure of Petroleum Products, ASTM D5191; and (12) Pour Point of Crude Oils, ASTM D 5853. Therefore, in accordance with part 151.12 of the Customs Regulations, Intertek Testing Services/Caleb Brett of Texas City, Texas is hereby accredited to analyze the products named above.

Location: Intertek Testing Services/Caleb Brett accredited site is located at: 101 20th Street South, Texas City, TX 77590.

EFFECTIVE DATE: July 1, 2003.

FOR FURTHER INFORMATION CONTACT: Arlene Faustermann, Science Officer, Laboratories and Scientific Services, Customs and Border Protection, 1300 Pennsylvania Avenue, NW., Suite 1500 North, Washington, DC 20229, (202) 927-1060.

Dated: July 1, 2003.
Ira S. Reese,
Executive Director, Laboratories and Scientific Services.

[FR Doc. 03-17550 Filed 7-10-03; 8:45 am]

BILLING CODE 4820-02-P